DEPARTMENT OF ENERGY

Federal Energy Regulatory Commission

Combined Notice of Filings #2

Take notice that the Commission received the following electric rate filings:

Docket Numbers: ER20-1607-001.

Applicants: PacifiCorp.

Description: Tariff Amendment: Colstrip Trans System LGIA—Concurrence Broadview Solar—Errata Filing to be effective 4/9/2020.

Filed Date: 4/30/20.

Accession Number: 20200430-5287.

Comments Due: 5 p.m. ET 5/21/20.

Docket Numbers: ER20-1710-000.

Applicants: Rochelle Municipal Utilities, PJM Interconnection, L.L.C.

Description: § 205(d) Rate Filing: City of Rochelle submits Revisions to CTOA to be Removed as a TO to be effective 5/28/2020.

Filed Date: 4/30/20.

Accession Number: 20200430-5222.

Comments Due: 5 p.m. ET 5/21/20.

Docket Numbers: ER20-1711-000.

Applicants: PJM Interconnection, L.L.C.

Description: § 205(d) Rate Filing: Amendment to ISA, Service Agreement No. 5466; Queue No. AC2-176 to be effective 8/13/2019.

Filed Date: 4/30/20.

Accession Number: 20200430-5219.

Comments Due: 5 p.m. ET 5/21/20.

Docket Numbers: ER20-1712-000.

Applicants: Southwest Power Pool, Inc.

Description: § 205(d) Rate Filing: 3668 MRES/Western Minnesota/Fort Pierre/West Central Int Agr to be effective 7/1/2020.

Filed Date: 4/30/20.

Accession Number: 20200430-5223.

Comments Due: 5 p.m. ET 5/21/20.

Docket Numbers: ER20-1713-000.

Applicants: Evergy Kansas Central, Inc.

Description: Compliance filing: Order No. 864 Compliance to be effective 1/27/2020.

Filed Date: 4/30/20.

Accession Number: 20200430-5278.

Comments Due: 5 p.m. ET 5/21/20.

Docket Numbers: ER20-1714-000.

Applicants: Duke Energy Carolinas, LLC.

Description: § 205(d) Rate Filing: DEC Wholesale Contract Rev. Rate Schedule Nos. 328, 329, 330, 332, 336, 337, 338 to be effective 1/1/2020.

Filed Date: 4/30/20.

Accession Number: 20200430-5273.

Comments Due: 5 p.m. ET 5/21/20.

Docket Numbers: ER20-1715-000.

Applicants: Duke Energy Carolinas, LLC.

Description: § 205(d) Rate Filing: DEC—Revision to Rate Schedule No. 326 to be effective 6/1/2020.

Filed Date: 4/30/20.

Accession Number: 20200430-5289.

Comments Due: 5 p.m. ET 5/21/20.

Docket Numbers: ER20-1716-000.

Applicants: Duke Energy Carolinas, LLC.

Description: § 205(d) Rate Filing: DEC—Revisions to Rate Schedule 273 to be effective 6/1/2020.

Filed Date: 4/30/20.

Accession Number: 20200430-5279.

Comments Due: 5 p.m. ET 5/21/20.

Docket Numbers: ER20-1717-000.

Applicants: Duke Energy Progress, LLC.

Description: § 205(d) Rate Filing: DEP—Wholesale Contract Revisions to Rate Schedule No. 182 to be effective 6/1/2020.

Filed Date: 4/30/20.

Accession Number: 20200430-5297.

Comments Due: 5 p.m. ET 5/21/20.

Docket Numbers: ER20-1718-000.

Applicants: New York Independent System Operator, Inc.

Description: § 205(d) Rate Filing: 205 filing of tariff revisions re: Part A enhancements under BSM to be effective 6/30/2020.

Filed Date: 4/30/20.

Accession Number: 20200430-5302.

Comments Due: 5 p.m. ET 5/21/20.

Docket Numbers: ER20-1719-000.

Applicants: PPL Electric Utilities Corporation, PJM Interconnection, L.L.C.

Description: Compliance filing: PPL submits revisions to PJM Tariff re: Order 864 to be effective 1/27/2020.

Filed Date: 4/30/20.

Accession Number: 20200430-5307.

Comments Due: 5 p.m. ET 5/21/20.

Docket Numbers: ER20-1720-000.

Applicants: Southern California Edison Company.

Description: Compliance filing: SCE Revised TO Tariff Formula Rate—Order No. 864 to be effective 1/27/2020.

Filed Date: 4/30/20.

Accession Number: 20200430-5309.

Comments Due: 5 p.m. ET 5/21/20.

Docket Numbers: ER20-1721-000.

Applicants: Energy Harbor LLC.

Description: § 205(d) Rate Filing: Amendment to Reactive Service Rate Schedule FERC No. 1 to be effective 5/31/2020.

Filed Date: 4/30/20.

Accession Number: 20200430-5311.

Comments Due: 5 p.m. ET 5/21/20.

Docket Numbers: ER20-1722-000.

Applicants: Spring Valley Wind LLC.

Description: § 205(d) Rate Filing: Notice of Change in MBR Status to be effective 5/1/2020.

Filed Date: 4/30/20.

Accession Number: 20200430-5315.

Comments Due: 5 p.m. ET 5/21/20.

Docket Numbers: ER20-1723-000.

Applicants: Midcontinent Independent System Operator, Inc.

Description: § 205(d) Rate Filing: 2020-04-30_Revisions to the TOA to Clarify Cost Allocation Methodology to be effective 7/29/2020.

Filed Date: 4/30/20.

Accession Number: 20200430-5325.

Comments Due: 5 p.m. ET 5/21/20.

Take notice that the Commission received the following electric securities filings:

Docket Numbers: ES20-28-000; ES20-29-000; ES20-30-000; ES20-31-000; ES20-32-000.

Applicants: AEP Generating Company, AEP Texas Inc., Kingsport Power Company, Inc., Southwestern Electric Power Company, Wheeling Power Company.

Description: Application Under Section 204 of the Federal Power Act for Authorization to Issue Securities of AEP Generating Company, et al.

Filed Date: 4/30/20.

Accession Number: 20200430-5254.

Comments Due: 5 p.m. ET 5/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2020.
Nathaniel J. Davis, Sr.,
Deputy Secretary.

[FR Doc. 2020-09651 Filed 5-5-20; 8:45 am]

BILLING CODE 6717-01-P